SECURITIES AND EXCHANGE COMMISSION

Submission for OMB Review; Comment Request

Upon written request, copies available from: U.S. Securities and Exchange Commission, Office of Filing and Information Services, Washington, DC 20549.

Extension:

Rule 30b1-5, SEC File No. 270-520, OMB Control No. 3235-0577.

Notice is hereby given that pursuant to the Paperwork Reduction Act of 1995 (44 U.S.C. 3501 et seq.)(“Act”) the U.S. Securities and Exchange Commission (“Commission”) has submitted to the Office of Management and Budget (“OMB”) a request for extension of the previously approved collection of information discussed below.

The title for the collection of information is “Rule 30b1-5 under the Investment Company Act of 1940, Quarterly Filing of Schedule of Portfolio Holdings of Registered Management Investment Companies.”

Rule 30b1-5 under the Investment Company Act of 1940 requires registered management investment companies, other than small business investment companies registered on Form N-5, to file a quarterly report via the Commission's EDGAR system on Form N-Q, not more than sixty calendar days after the close of each first and third fiscal quarter, containing their complete portfolio holdings.

The Commission estimates that there are 9,850 management investment companies and series that are governed by the rule. The Commission estimates that the annual burden associated with the rule is 1 hour per affected investment company or series. The total burden hours for rule 30b1-5 is 9,850 per year in the aggregate (9,850 responses × 1 hour per response). Estimates of average burden hours are made solely for the purposes of the Act, and are not derived from a comprehensive or even a representative survey or study of the costs of Commission rules and forms.

The collection of information under rule 30b1-5 is mandatory. The information provided under rule 30b1-5 is not kept confidential. An agency may not conduct or sponsor, and a person is not required to respond to, a collection of information unless it displays a currently valid OMB control number.

General comments regarding the above information should be directed to the following persons: (i) Desk Officer for the U.S. Securities and Exchange Commission, Office of Information and Regulatory Affairs, Office of Management and Budget, Room 10102, New Executive Office Building, Washington, DC 20503; or e-mail to: David_Rostker@omb.eop.gov; and (ii) R. Corey Booth, Director/Chief Information Officer, Office of Information Technology, U.S. Securities and Exchange Commission, 100 F Street, NE., Washington, DC 20549. Comments must be submitted to OMB within 30 days of this notice.

Dated: October 28, 2005.
Jonathan G. Katz,
Secretary.

[FR Doc. 05-22293 Filed 11-8-05; 8:45 am]

BILLING CODE 8010-01-P